DEPARTMENT OF AGRICULTURE

Animal and Plant Health Inspection Service

[Docket No. APHIS-2014-0035]

Notice of Request for Revision to and Extension of Approval of an Information Collection; Importation of Pine Shoot Beetle Host Material From Canada

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the importation of pine nursery stock and various pine products from Canada to prevent the spread of pine shoot beetle into noninfested areas of the United States.

DATES: We will consider all comments that we receive on or before July 15, 2014.

ADDRESSES: You may submit comments by either of the following methods:

• Federal eRulemaking Portal: Go to http://www.regulations.gov/#!docketDetail;D=APHIS-2014-0035.

• Postal Mail/Commercial Delivery: Send your comment to Docket No. APHIS-2014-0035, Regulatory Analysis and Development, PPD, APHIS, Station 3A-03.8, 4700 River Road, Unit 118, Riverdale, MD 20737-1238.

Supporting documents and any comments we receive on this docket may be viewed at http://www.regulations.gov/#!docketDetail;D=APHIS-2014-0035 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of pine nursery stock and various pine products from Canada, contact Mr. David Lamb, Senior Regulatory Policy Specialist, RCC, RPM, PHP, PPQ, APHIS, 4700 River Road Unit 133, Riverdale, MD 20737; (301) 851-2103. For copies of more detailed information on the information collection, contact Mrs. Celeste Sickles, APHIS' Information Collection Coordinator, at (301) 851-2908.

SUPPLEMENTARY INFORMATION: Title: Importation of Pine Shoot Beetle Host Material From Canada.

OMB Control Number: 0579-0257.

Type of Request: Revision to and extension of approval of an information collection.

Abstract: The Plant Protection Act (PPA, 7 U.S.C. 7701 et seq.) authorizes the Secretary of Agriculture to restrict the importation, entry, or interstate movement of plants, plant products, and other articles to prevent the introduction of plant pests into the United States or their dissemination within the United States.

As authorized by the PPA, the Animal and Plant Health Inspection Service (APHIS) regulates the importation of plants for planting into the United States from certain parts of the world as provided in “Subpart—Plants for Planting” (7 CFR 319.37 through 319.37-14). This subpart restricts, among other things, the importation of living plants, plant parts, and seeds for propagation. In addition, APHIS regulates the importation of lumber and other wood articles as provided in “Subpart—Logs, Lumber, and Other Wood Articles” (7 CFR 319.40-1 through 319.40-11). This subpart lists requirements for the importation of various logs, lumber, and other unmanufactured wood products into the United States. Both subparts contain regulations that help prevent the introduction and spread of pine shoot beetle (Tomicuc piniperda), a pest of pine trees, into noninfested areas of the United States and contain several information collection requirements, including phytosanitary certificates with an additional declaration, statements of origin and movement, and compliance agreements.

These information collection requirements were previously approved by the Office of Management and Budget (OMB) under OMB control number 0579-0257, and under the title of “Pine Shoot Beetle; Host Material From Canada.” For clarity, we have revised the name of this collection to “Importation of Pine Shoot Beetle Host Material From Canada.”

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.0402 hours per response.

Respondents: Christmas tree industry, nursery industry, and the national plant protection organization of Canada.

Estimated annual number of respondents: 2,340.

Estimated annual number of responses per respondent: 1.

Estimated annual number of responses: 2,340.

Estimated total annual burden on respondents: 94 hours. (Due to averaging, the total annual burden hours may not equal the product of the annual number of responses multiplied by the reporting burden per response.)

All responses to this notice will be summarized and included in the request for OMB approval. All comments will also become a matter of public record.

Done in Washington, DC, this 12th day of May 2014.
Kevin Shea,
Administrator, Animal and Plant Health Inspection Service.

[FR Doc. 2014-11277 Filed 5-15-14; 8:45 am]

BILLING CODE 3410-34-P